DEPARTMENT OF JUSTICE

Antitrust Division

Notice Pursuant to the National Cooperative Research and Production Act of 1993—World Council of Optometry Global Commission on Ophthalmic Standards

Notice is hereby given that, on July 20, 2005, pursuant to Section 6(a) of the National Cooperative Research and Production Act of 1993, 15 U.S.C. 4301 et seq. (“the Act”), World Council of Optometry Global Commission on Ophthalmic Standards (“WCO GCOS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: World Council of Optometry Global Commission on Ophthalmic Standards, Elkins Park, PA. The nature and scope of WCO GCOS's standards development activities are: the WCO GCOS provides for voluntary, impartial ophthalmic product evaluation resulting in the issuance of a seal of acceptance for those ophthalmic products that meet published standards specifications developed by the WCO GCOS, including biological, laboratory, and/or clinical evaluations, or the issuance of a seal of certification for those ophthalmic products that meet standards already approved by accepted standards organizations and which are designated for use by the WCO GCOS. The WCO GCOS selects the categories of products to be evaluated and develops evaluation specifications/standards for those ophthalmic products using the American National Standard Institute's Third Party Certification Program Principles (ANSI Z34. 1-1993). Product categories for which the WCO GCOS currently has approved standards are: ultraviolet absorbers and blockers. Additional categories are always under review. The WCO GCOS abides by a strict Code of Conduct for reviewing any applications for seals of acceptance or certification and for developing approved evaluation specifications/standards.

Dorthy B. Fountain,
Deputy Director of Operations, Antitrust Division.

[FR Doc. 05-17420 Filed 8-31-05; 8:45 am]

BILLING CODE 4410-11-M